DEPARTMENT OF AGRICULTURE

Forest Service

Mendocino Resource Advisory Committee

AGENCY: Forest Service, USDA.

ACTION: Notice of meeting.

SUMMARY: The Mendocino County Resource Advisory Committee will meet January 21, 2005, (RAC) in Willits, California. Agenda items to be covered include: (1) Approval of minutes (2) Public Comment, (3) Sub-committees (4) Old Business. (5) Non Attendance/Informational/action item (6) Discussion/approval of projects, (7) Matters before the group (8) hand outs (9) next agenda items and meeting date.

DATES: The meeting will be held on January 21, 2005, from 9 a.m. to 12 noon.

ADDRESSES: The meeting will be held at the Mendocino County Museum, located at 400 E. Commercial St., Willits, California.

FOR FURTHER INFORMATION CONTACT: Roberta Hurt, Committee Coordinator, USDA, Mendocino National Forest, Covelo Ranger District, 78150 Covelo Road, Covelo CA 95428. (707) 983-8503: e-mail rhurt@fs.fed.us.

SUPPLEMENTARY INFORMATION: The meeting is open to the public. Persons who wish to bring matters to the attention of the Committee may file written statements with the Committee staff by January 17, 2005. Public comment will have the opportunity to address the committee at the meeting.

Dated: December 14, 2004.
Blaine Baker,
Designated Federal Official.

[FR Doc. 04-27744 Filed 12-17-04; 8:45 am]

BILLING CODE 3410-11-M